DEPARTMENT OF EDUCATION

Notice of Proposed Information Collection Requests; Office of Planning, Evaluation and Policy Development; EDFacts Collection of Elementary and Secondary Education Act of 1965 (ESEA) Flexibility Data

SUMMARY: On September 23, 2011, the U.S. Department of Education (ED) invited State educational agencies (SEAs) to request flexibility pursuant to the authority in section 9401 of ESEA, which allows the Secretary of Education to waive, with certain exceptions, any statutory or regulatory requirement of the ESEA for an SEA that receives funds under a program authorized by the ESEA and requests a waiver. In order to ensure that SEAs receiving ESEA flexibility are continuing to meet the intent and purpose of Title I of ESEA, including meeting the educational needs of low-achieving students, closing achievement gaps, and holding schools, local educational agencies, and SEAs accountable for improving the academic achievement of all students, ED will continue to collect all data related to student proficiency rates as well as performance against the annual measurable objectives. This collection will be applicable to SEAs with approved flexibility requests.

DATES: Interested persons are invited to submit comments on or before July 30, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04860. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: EDFacts Collection of ESEA Flexibility Data.

OMB Control Number: Pending.

Type of Review: New.

Total Estimated Number of Annual Responses: 52.

Total Estimated Number of Annual Burden Hours: 1,248.

Abstract: On September 23, 2011, the U.S. Department of Education (ED) invited each State educational agency (SEA) to voluntarily request flexibility on behalf of itself, its local educational agencies, and schools, in order to better focus on improving student learning and increasing the quality of instruction. Since then, ED has approved 11 SEA requests for flexibility, and is currently reviewing an additional 27 requests. ED expects to receive requests from additional SEAs by September 6, 2012. SEAs are invited to request flexibility pursuant to the authority in section 9401 of the Elementary and Secondary Education Act of 1965 (ESEA), which allows the Secretary of Education to waive, with certain exceptions, any statutory or regulatory requirement of the ESEA for an SEA that receives funds under a program authorized by the ESEA and requests a waiver. This clearance request is for the collection of data that may be needed to ensure that SEAs receiving ESEA flexibility are continuing to meet the intent and purpose of Title I of ESEA, including meeting the educational needs of low-achieving students, closing achievement gaps, and holding schools, local educational agencies, and SEAs accountable for improving the academic achievement of all students. This collection will be applicable to SEAs with approved flexibility plans. In order to reduce burden on SEAs and maximize the availability and utility of the data within ED, ED plans to require states to submit these data electronically through EDFacts, as allowable under 34 CF. Part 76. “Flexibility Clearance Attachment B” outlines the 22 new data groups proposed for collection. ED is requesting SEAs to review the last page of Attachment B which provides two directed questions (see the link to EDICSweb to link number 04860 in the Addresses section above.) ED is requesting the data providers of each SEA respond to two specific questions about the proposed data groups. Responses to these questions will help ED determine whether or not to adjust the proposed data groups, as well as to determine which of the data can currently be provided by SEAs.

Dated: May 24, 2012.
Darrin A. King,
Director, Information Collection Clearance Division, Privacy, Information and Records Management Services, Office of Management.

[FR Doc. 2012-13182 Filed 5-30-12; 8:45 am]

BILLING CODE 4000-01-P